DEPARTMENT OF DEFENSE

Office of the Secretary

[Docket ID: DoD-2013-OS-0017]

Proposed Collection; Comment Request

AGENCY: United States of America Vietnam War Commemoration; OSD/DA&M, DoD.

ACTION: Notice.

In compliance with Section 3506(c)(2)(A) of the Paperwork Reduction Act of 1995, the Office of Commemorations under the Secretary of Defense announces a proposed public information collection and seeks public comment on the provisions thereof. Comments are invited on (a) whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 8, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to The United States of America Vietnam War Commemoration, Attn: Yvonne Schilz, 1101 Wilson Boulevard, Suite 810, Arlington, VA 22209 or call at 703-697-4919.

Title; Associated Form; and OMB Number: Vietnam War Commemoration After-Action Report; DD Form 2957; OMB Number 0704-TBD.

Needs and Uses: The information collection requirement is necessary to notify the United States of America Vietnam War Commemoration's Commemorative Partner Program of Commemorative Partner's results of their event. The form will be used by both civilian and military organizations. The Commemorative Partner Program (CPP) is designed to support federal agencies, State, local, civilian and military communities, international governments, veterans' organizations, civic groups, industries, educational institutions, libraries, museums, business and other organizations in assisting a grateful nation in commemorating the Vietnam War. Commemorative Partners are asked to plan and conduct at least two appropriate events and activities each year during the 2015-2017 timeframe that will “thank and honor” our veterans and their families in a memorable, but dignified and honorable manner. Events and activities must meet one or more of the Congressionally-mandated objectives of the program.

Affected Public: Business or other for-profit; Not-for-profit institutions; Federal Government; State, local or tribal government

Annual Burden Hours: 1,250.

Number of Respondents: 5,000.

Responses per Respondent: One (1) on average. Responses are voluntary and thus the number of responses will vary among respondents. We estimate an average of one annual response per respondent.

Average Burden per Response: 15 minutes.

Frequency: On occasion.

SUPPLEMENTARY INFORMATION:

Summary of Information Collection

The United States of America Vietnam War Commemoration Commemorative Partner Program is a voluntary program for organizations to assist a grateful nation in thanking and honoring our Vietnam Veterans and their families. After-Action Reports on events held by Commemorative Partners are purely voluntary, but will inform the program as to the nationwide effort and success to thank and honor our Vietnam Veterans. Information to be collected includes: Commemorative Partner Program Organization Name; Address of Organization; Date(s) of Event; Location(s) of Event; Estimated Attendance; Number of Vietnam Veterans Recognized; Number of Vietnam Veteran Families Recognized; and additional comments such as “lessons learned” as a result of conducting the event.

Dated: February 4, 2013.
Aaron Siegel,
Alternate OSD Federal Register Liaison Officer, Department of Defense.

[FR Doc. 2013-02738 Filed 2-6-13; 8:45 am]

BILLING CODE 5001-06-P